DEPARTMENT OF ENERGY

Federal Energy Regulatory Commission

Combined Notice of Filings #1

Take notice that the Commission received the following electric rate filings:

Docket Numbers: ER10-3253-001; ER10-3237-001; ER10-3240-001; ER10-3230-001; ER10-3239-001.

Applicants: Wheelabrator Portsmouth Inc., Wheelabrator Westchester L.P., Wheelabrator Bridgeport, L.P., Wheelabrator Frackville Energy Co., Inc., Wheelabrator North Andover Inc.

Description: Wheelabrator Bridgeport, L.P. et. al. submits supplemental information to their updated market power analysis for the Northeast region.

Filed Date: 3/6/12.

Accession Number: 20120306-5216.

Comments Due: 5 p.m. ET 3/27/12.

Docket Numbers: ER12-1217-000.

Applicants: PJM Interconnection, L.L.C.

Description: Original Service Agreement No. 3253; Queue No. W4-053 to be effective 2/14/2012.

Filed Date: 3/6/12.

Accession Number: 20120306-5180.

Comments Due: 5 p.m. ET 3/27/12.

Docket Numbers: ER12-1218-000.

Applicants: PJM Interconnection, L.L.C.

Description: Original Service Agreement No. 3250; Queue No. W2-091 to be effective 2/14/2012.

Filed Date: 3/7/12.

Accession Number: 20120307-5041.

Comments Due: 5 p.m. ET 3/28/12.

Docket Numbers: ER12-1219-000.

Applicants: PJM Interconnection, L.L.C.

Description: Original Service Agreement No. 3249; Queue No. W2-088 effective 2/14/2012 [initial submission description misidentified as No. 3250; Queue No. W2-091.

Filed Date: 3/7/12.

Accession Number: 20120307-5051.

Comments Due: 5 p.m. ET 3/28/12.

Docket Numbers: ER12-1220-000.

Applicants: Community Power & Utility, Community Power & Utilities.

Description: Notice of Cancellation of Community Power & Utility.

Filed Date: 3/7/12.

Accession Number: 20120307-5078.

Comments Due: 5 p.m. ET 3/28/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 07, 2012.
Nathaniel J. Davis, Sr.,
Deputy Secretary.

[FR Doc. 2012-6131 Filed 3-13-12; 8:45 am]

BILLING CODE 6717-01-P